FEDERAL MEDIATION AND CONCILIATION SERVICE

Labor-Management Relations Information Collection Requests

AGENCY: Federal Mediation and Conciliation Service.

ACTION: Submission for OMB Review: Request for Comments.

SUMMARY: The Federal Mediation and Conciliation Service (FMCS) hereby announces the submission of the following public information collection request (ICR) to the Office of Management and Budget (OMB) for review and approval in accordance with the Paperwork Reduction Act of 1995 (Pub. L. 104-13). The information collection request is the Notice to Mediation Agencies (Agency Form F-7), OMB control number 3076-0004. No comments were received pursuant to FMCS's prior 60-day notice in the Federal Register on June 26, 2012. However, we would like to make a correction to that notice. The collection is actually being submitted to OMB as a reinstatement with change of a previously approved collection. The changes include modest streamlining and improvements for clarity. OMB is interested in comments on specific aspects of the collection. The OMB is particularly interested in comments that: (1) Evaluate whether the proposed collection of information is necessary for the proper performance of the functions of the agency, including whether the information will have practical utility;

(2) Evaluates the accuracy of the agency's estimates of the burden of the proposed collection information;

(3) Enhance the quality, utility, and clarity of the information to be collected; and

(4) Minimize the burden of the collections of information on those who are to respond, including the use of appropriate automated, electronic collection technologies or other forms of information technology.

Burden: FMCS receives approximately 21,000 responses to the form Notice to Mediation Agencies (OMB No. 3076-004).

Affected Entities: Private sector employers and labor unions involved in interstate commerce that file notices for mediation services to the FMCS and state, local and territorial agencies.

DATES: Comments must be submitted on or before October 15, 2012.

ADDRESSES: Submit written comments to: Email: oira_submissions@omb.eop.gov. Please include the FMCS form number, the information collection title, and the OMB control number in the subject line of the message. Comments may also be sent to fax number 202.395.5806 to the attention of Desk Officer for FMCS.

SUPPLEMENTARY INFORMATION: For additional information, see the related 60-day notice published in the Federal Register at Vol. 77 No. 38062 on June 26, 2012.

Dated: September 10, 2012.
Jeannette Walters-Marquez,
Attorney Advisor.

[FR Doc. 2012-22629 Filed 9-13-12; 8:45 am]

BILLING CODE 6732-01-P